ENVIRONMENTAL PROTECTION AGENCY

[EPA-HQ-OAR-2016-0731; FRL-12299-01-OMS]

Agency Information Collection Activities; Submission to the Office of Management and Budget for Review and Approval; Comment Request; EPA's Methane Challenge and Natural Gas STAR Programs (Renewal)

AGENCY: Environmental Protection Agency (EPA).

ACTION: Notice.

SUMMARY: The Environmental Protection Agency (EPA) has submitted an information collection request (ICR), EPA's Methane Challenge and Natural Gas STAR Programs (EPA ICR Number 2547.03, OMB Control Number 2060-0722) to the Office of Management and Budget (OMB) for review and approval in accordance with the Paperwork Reduction Act. This is a proposed revision of the current ICR, which is currently approved through December 31, 2024. Public comments were previously requested via the Federal Register on June 5, 2024 during a 60-day comment period. This notice allows for an additional 30 days for public comments.

DATES: Comments may be submitted on or before October 30, 2024.

ADDRESSES: Submit your comments, referencing Docket ID Number EPA-HQ-OAR-2016-0731, to EPA online using www.regulations.gov (our preferred method), by email to a-and-r-Docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Andrew Meluch, Office of Atmospheric Programs, Climate Change Division, (6207A), Environmental Protection Agency, 1200 Pennsylvania Ave. NW, Washington, DC 20460; telephone number: (202) 564-4762; email address: meluch.andrew@epa.gov.

SUPPLEMENTARY INFORMATION: This is a proposed revision of the ICR, which is currently approved through December 31, 2024. An agency may not conduct or sponsor and a person is not required to respond to a collection of information unless it displays a currently valid OMB control number.

Public comments were previously requested via the Federal Register on June 5, 2024, during a 60-day comment period (89 FR 48164). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR revision proposes to significantly pare down the information reported to EPA's Natural Gas STAR and Methane Challenge Programs. Specifically, it proposes to remove all of the partnership-specific reporting elements, based on the Programs' changes to sunset the “Partnership” aspects of the programs. EPA proposes to retain one key element of the ICR, the Service Provider Directory.

The oil and natural gas industry is the second largest source of anthropogenic methane emissions in the U.S., according to the Inventory of U.S. Greenhouse Gas Emissions and Sinks: 1990-2022. Since 1993, the U.S. Environmental Protection Agency's (EPA) Natural Gas STAR Program has encouraged oil and natural gas companies to adopt cost-saving technologies and practices that improve operational efficiency and reduce methane emissions. In 2016, EPA launched the Methane Challenge Program, which created a mechanism for oil and natural gas companies to make ambitious, voluntary commitments to reduce their methane emissions.

EPA has recently taken historic steps to tackle wasteful methane emissions from the oil and gas sector beyond voluntary action. The Inflation Reduction Act directed EPA to implement a suite of actions to swiftly reduce methane emissions through the creation of the Methane Emissions Reduction Program (MERP). On December 2, 2023, EPA announced final New Source Performance Standards and Emissions Guidelines (NSPS/EG) to regulate the oil and gas industry under the Clean Air Act, resulting in ambitious requirements to reduce methane from both new and existing sources.

In 2022, EPA announced the sunsetting of the Natural Gas STAR Program partnership agreements, implementation plans, and annual reporting. Based on the limited remaining potential for voluntary actions to reduce methane emissions, EPA will also be sunsetting the Methane Challenge Partnership at the end of 2024. EPA will be transitioning the Natural Gas STAR Program outreach efforts to advance ambitious, sector-wide methane reductions through technical assistance and outreach under the Methane Emissions Reduction Program.

Therefore, based on these significantly reduced programmatic elements, for this revision of the program ICR, EPA proposes to remove all partnership reporting data elements and partnership-related information collection forms for both programs. This includes the removal of annual reporting forms, partnership agreements, and implementation plans. The sole programmatic element involving voluntary information collection that EPA plans to retain is the Service Providers Directory. This directory's purpose is to share information about service and technology providers that can facilitate methane emission reduction activities in the oil and gas sector. These changes will result in a significant overall decrease in burden for this ICR.

Form Numbers: 5900-502.

Respondents/affected entities: Stakeholders seeking to join the Service Provider Directory.

Respondent's obligation to respond: Voluntary.

Estimated number of respondents: 50 per year (total).

Frequency of response: Respondents may fill out the Service Provider Directory form any time.

Total estimated burden: 12.5 hours (per year). Burden is defined at 5 CFR 1320.03(b).

Total estimated cost: $1,394 (per year), which includes $0 annualized capital or operation & maintenance costs.

Changes in the Estimates: There is a decrease of 4,846 hours in the total estimated respondent burden compared with the ICR currently approved by OMB. This decrease is due to the removal of all previous forms associated with the Natural Gas STAR and Methane Challenge Programs, maintaining only the Service Provider Directory form.

Courtney Kerwin,
Director, Information Engagement Division.

[FR Doc. 2024-22296 Filed 9-27-24; 8:45 am]

BILLING CODE 6560-50-P